FEDERAL ELECTION COMMISSION

Sunshine Act Meetings

AGENCY: Federal Election Commission.

DATE AND TIME: Tuesday, September 12, 2000, 10 a.m.

PLACE: 999 E Street, NW., Washington, D.C.

STATUS: This meeting will be closed to the public.

ITEMS TO BE DISCUSSED: Compliance matters pursuant to 2 U.S.C. § 437g.

Audits conducted pursuant to 2 U.S.C. § 437g, § 438(b), and Title 26, U.S.C.

Matters concerning participation in civil actions or proceedings or arbitration.

Internal personnel rules and procedures or matters affecting a particular employee.

DATE AND TIME: Thursday, September 14, 2000, 10 a.m.

PLACE: 999 E Street, NW., Washington, DC (Ninth Floor).

STATUS: This meeting will be open to the public.

ITEMS TO BE DISCUSSED: Correction and Approval of Minutes.

Dole for President—Statement of Reasons (LRA#467).

Dole/Kemp '96, Inc.—Statement of Reasons (LRA#506).

Buchanan for President, Inc.—Statements of Reasons (LRA#512).

Advisory Opinion 2000-20: Committee for Quality Cancer Care by counsel, Brett G. Kappel.

Advisory Opinion 2000-22: Air Transportation Association of America, American Land Title Association, Council of Insurance Agents and Brokers, Independent Insurance Agents of America, and the Society of Independent Gasoline Marketers of America by counsel, Scott A. Sinder and Stephen Gold.

Revisions to Reporting Forms and Instructions.

Explanation and Justification for Revisions to FEC Reporting Forms.

Administrative Matters.

PERSON TO CONTACT FOR INFORMATION: Mr. Ron Harris, Press Officer, Telephone: (202) 694-1220.

Mary W. Dove,
Acting Secretary of the Commission.

[FR Doc. 00-23158 Filed 9-5-00; 3:30 pm]

BILLING CODE 6715-01-M